INTERNATIONAL TRADE COMMISSION

[Investigation No. 332-571]

U.S. Trade and Investment With Sub-Saharan Africa: Recent Trends and New Developments

AGENCY: United States International Trade Commission.

ACTION: Institution of investigation and scheduling of public hearing.

SUMMARY: Following receipt of a request dated May 6, 2019 from the United States Trade Representative (USTR) under the section 332(g) of the Tariff Act of 1930, the U.S. International Trade Commission (Commission) has instituted Investigation No. 332-571, U.S. Trade and Investment with Sub-Saharan Africa: Recent Trends and New Developments, for the purpose of preparing the report requested by the USTR. The Commission has scheduled a public hearing in connection with this investigation for July 24, 2019.

DATES:

July 12, 2019: Deadline for filing requests to appear at the public hearing.

July 17, 2019: Deadline for filing pre-hearing briefs and statements.

July 24, 2019: Public hearing.

July 31, 2019: Deadline for filing post-hearing briefs and statements.

August 16, 2019: Deadline for filing all other written submissions.

March 31, 2020: Transmittal of Commission report to USTR.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov/edis3-internal/app.

FOR FURTHER INFORMATION CONTACT: Project Leaders Arthur Chambers (arthur.chambers@usitc.gov or 202-205-2766) or Wen Jin (Jean) Yuan (wenjin.yuan@usitc.gov or 202-205-2383) for information specific to this investigation. For information on the legal aspects of this investigation, contact William Gearhart of the Commission's Office of the General Counsel (william.gearhart@usitc.gov or 202-205-3091). The media should contact Margaret O'Laughlin, Office of External Relations (margaret.olaughlin@usitc.gov or 202-205-1819). Hearing-impaired individuals may obtain information on this matter by contacting the Commission's TDD terminal at 202-205-1810. General information concerning the Commission may also be obtained by accessing its internet server (https://www.usitc.gov). Persons with mobility impairments who will need special assistance in gaining access to the Commission should contact the Office of the Secretary at 202-205-2000.

Background: The Commission instituted this investigation following receipt of a letter from the USTR dated May 6, 2019. The letter requested that the Commission conduct an investigation and provide a report on U.S. trade and investment with sub-Saharan Africa (SSA). The USTR asked that the Commission's report, to the extent information is available, focus primarily on the years 2016-2018, or the latest three years for which data are available, but where appropriate examine longer-term trends since 2000. The USTR asked that this report should include the following:

1. An overview of U.S. exports of goods and services to SSA, which should, to the extent information is available:

a. Identify the sectors in which U.S. exports of goods and services to SSA have increased the most, in both value and percentage terms, and indicate major factors behind this growth.

b. Identify the SSA countries to which U.S. exports of goods and services have increased the most, in both value and percentage terms, and indicate the major factors behind this growth.

c. Identify SSA countries to which U.S. outward FDI has increased the most, in both value and percentage terms, and indicate major factors behind this growth.

d. Provide examples of how products and services from the United States integrate into key SSA value chains; identify possible opportunities for U.S. firms to better integrate into these value chains, where appropriate; and describe national or regional policies and other macroeconomic factors that may affect future demand for these U.S. products.

2. An overview of U.S. imports of goods and services from SSA, which should, to the extent information is available:

a. Identify the sectors in which U.S. imports of goods and services from SSA have increased the most, in both value and percentage terms, and indicate major factors behind this growth. Data on goods should include both AGOA (including GSP) imports and total imports.

b. Identify the SSA countries in which exports of goods and services to the United States have increased the most, in both value and percentage terms, and indicate the major factors behind this growth. Data on goods should include both AGOA (including GSP) imports and total imports.

3. To the extent information is available, describe the intellectual property environment, including national and regional laws, enforcement measures, and infringement issues, in key SSA markets. Through case studies describe the effects of the intellectual property environment on trade and investment in the key SSA markets.

4. Provide a broad overview and examples of technological innovation in the SSA food and agricultural production, processing, and marketing system. This should include a broad description of SSA food and agricultural producers' use of technological improvements in such areas as crop and livestock nutrition and genetics (including biotechnology); machinery and equipment; data processing and analytics; and digital market information and risk management systems. Through case studies, describe how the adoption of such technological improvements has affected certain SSA food and agricultural producers' overall production and export performance. Additionally, describe current national and regional regulatory policies and market conditions in key countries in SSA that may affect the adoption of technological improvements in the SSA food and agricultural sector.

5. Provide a broad overview and describe recent developments in the digital economy for key SSA markets. Provide information on the market for digital technologies in those key SSA markets as well as the role of digital products and services from the United States. To the extent that data are available, describe the market for digital products and services, such as internet-connected devices, cloud computing,e-commerce, Internet of Things, blockchain, and internet search and digital content, as well as how adoption of digital technologies affects other industry sectors, such as manufacturing and other services. Describe current national and regional regulatory and policy measures and market conditions in key countries in SSA that affect digital trade.

6. Provide a summary of recent developments of regional integration efforts in SSA, including progress on the negotiation and implementation of the African Continental Free Trade Area.

7. Briefly summarize the AGOA utilization strategies that have been developed by SSA countries.

8. To the extent practicable, provide a summary of the most recent 2019 data on U.S. trade flows of goods with SSA.

9. The USTR asked that the Commission provide its report by March 31, 2020.

Public Hearing: A public hearing in connection with this investigation will be held at the U.S. International Trade Commission Building, 500 E Street SW, Washington, DC, beginning at 9:30 a.m. on July 24, 2019. Requests to appear at the hearing should be filed with the Secretary no later than 5:15 p.m., July 12, 2019, in accordance with the requirements in the “written submissions” section below. All pre-hearing briefs and statements should be filed not later than 5:15 p.m., July 17, 2019; and all post-hearing briefs and statements addressing matters raised at the hearing should be filed not later than 5:15 p.m., July 31, 2019. In the event that, as of the close of business on July 12, 2019, no witnesses are scheduled to appear at the hearing, the hearing will be canceled. Any person interested in attending the hearing as an observer or nonparticipant may call the Secretary to the Commission (202-205-2000) after July 12, 2019, for information concerning whether the hearing will be held.

Written Submissions: In lieu of or in addition to participating in the hearing, interested parties are invited to file written submissions concerning this investigation. All written submissions should be addressed to the Secretary, and should be received not later than 5:15 p.m., August 16, 2019. All written submissions must conform to the provisions of section 201.8 of the Commission's Rules of Practice and Procedure (19 CFR 201.8). Section 201.8 and the Commission's Handbook on Filing Procedures require that interested parties file documents electronically on or before the filing deadline and submit eight (8) true paper copies by noon eastern time on the next business day. In the event that confidential treatment of a document is requested, interested parties must file, at the same time as the eight paper copies, at least four (4) additional true paper copies in which the confidential business information must be deleted (see the following paragraphs for further information regarding confidential business information). Persons with questions regarding electronic filing should contact the Office of the Secretary, Docket Services Division (202-205-1802).

Confidential Business Information. Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

In his request letter, the USTR stated that his office intends to make the Commission's report available to the public and asked that the Commission not include any confidential business information or national security information in the report. The Commission will not include any confidential business information in the report that it sends to the USTR or makes available to the public. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions: The Commission intends to publish summaries of the positions of interested persons. Persons wishing to have a summary of their position included in the report should include a summary with their written submission and should specifically state the summary is intended for that purpose, and it should be titled as such. The summary may not exceed 500 words, should be in MSWord format or a format that can be easily converted to MSWord, and should not include any confidential business information. The summary will be included in the report as provided if it meets these requirements and is germane to the subject matter of the investigation. The Commission will identify the name of the organization furnishing the summary and will include a link to the Commission's Electronic Document Information System (EDIS) where the full written submission can be found.

By order of the Commission.
Issued: June 14, 2019.
Lisa Barton,
Secretary to the Commission.

[FR Doc. 2019-13029 Filed 6-18-19; 8:45 am]

BILLING CODE 7020-02-P